DEPARTMENT OF ENERGY

Federal Energy Regulatory Commission

[Project No. 2829-004]

City of Loveland, CO; Notice of Intent To File License Application, Filing of Pre-Application Document, and Approving Use of the Traditional Licensing Process

a. Type of Filing: Notice of Intent To File License Application and Request To Use the Traditional Licensing Process.

b. Project No.: 2829-004.

c. Dated Filed: February 11, 2011.

d. Submitted by: City of Loveland, Colorado (Loveland)

e. Name of Project: Loveland Hydroelectric Project.

f. Location: The existing 900-kilowatt project is located in Larimer County, Colorado on the Big Thompson River. The project occupies lands of the U.S. Forest Service.

g. Filed Pursuant to: 18 CFR 5.3 of the Commission's regulations.

h. Potential Applicant Contact: Larry Howard, Loveland Water & Power, 200 E. Wilson Avenue, Loveland, CO 80537; (970) 962-3703.

i. FERC Contact: Jim Fargo at (202) 502-6095; or e-mail at james.fargo@ferc.gov.

j. Loveland filed its request to use the Traditional Licensing Process on February 11, 2011. Loveland notified the public of its request on February 7, 2011. In a letter dated March 17, 2011, the Director of the Office of Energy Projects approved Loveland's request to use the Traditional Licensing Process.

k. With this notice, we are initiating informal consultation with: (a) The U.S. Fish and Wildlife Service under section 7 of the Endangered Species Act and the joint agency regulations thereunder at 50 CFR, Part 402; and (b) the Colorado State Historic Preservation Officer, as required by Section 106, National Historical Preservation Act, and the implementing regulations of the Advisory Council on Historic Preservation at 36 CFR 800.2.

l. With this notice, we are designating Loveland as the Commission's non-Federal representative for carrying out informal consultation, pursuant to section 7 of the Endangered Species Act, section 305 of the Magnuson-Stevens Fishery Conservation and Management Act, and section 106 of the National Historic Preservation Act.

m. Loveland filed a Pre-Application Document (PAD; (including a proposed process plan and schedule) with the Commission, pursuant to 18 CFR 5.6 of the Commission's regulations.

n. A copy of the PAD is available for review at the Commission in the Public Reference Room or may be viewed on the Commission's Web site (http://www.ferc.gov), using the “eLibrary” link. Enter the docket number, excluding the last three digits in the docket number field to access the document (P-2829). For assistance, contact FERC Online Support at FERCONlineSupport@ferc.gov or toll free at 1-866-208-3676, of for TTY, (202) 502-8659. A copy is also available for inspection and reproduction at the address in paragraph h.

o. The licensee states its unequivocal intent to submit an application for a new license for Project No. 2829. Pursuant to 18 CFR 16.8, 16.9, and 16.10 each application for a new license and any competing license applications must be filed with the Commission at least 24 months prior to the expiration of the existing license. All applications for license for this project must be filed by March 8, 2014.

p. Register online at http://www.ferc.gov/docs-filing/esubscription.asp to be notified via e-mail of new filing and issuances related to this or other pending projects. For assistance, contact FERC Online Support.

Dated: March 18, 2011.
Kimberly D. Bose,
Secretary.

[FR Doc. 2011-7041 Filed 3-24-11; 8:45 am]

BILLING CODE 6717-01-P